DEPARTMENT OF HEALTH AND HUMAN SERVICES

Centers for Disease Control and Prevention

Disease, Disability, and Injury Prevention and Control Special Emphasis Panel: Mining Occupational Safety and Health Research, Request for Application OH-05-005

In accordance with section 10(a)(2) of the Federal Advisory Committee Act (Pub. L. 92-463), the Centers for Disease Control and Prevention (CDC) announces the following meeting:

Name: Disease, Disability, and Injury Prevention and Control Special Emphasis Panel (SEP): Mining Occupational Safety and Health Research, Request for Application OH-05-005.

Times and Dates: 6 p.m.-8 p.m., April 19, 2005 (Closed). 8 a.m.-5 p.m., April 20, 2005 (Closed). 8 a.m.-5 p.m., April 21, 2005 (Closed).

Place: Embassy Suites Hotel, 1900 Diagonal Road, Alexandria, VA 22314, telephone (703) 684-5900.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of applications received in response to Mining Occupational Safety and Health Research, Request for Application OH-05-005.

Contact Person For More Information: George Bockosh, MS, Scientific Review Administrator, National Institute for Occupational Safety and Health, CDC, National Personal Protective Technology Laboratory, 626 Cochrans Mill Road, Pittsburgh, PA 15236, Telephone (412) 386-6465.

The Director, Management Analysis and Services Office, has been delegated the authority to sign Federal Register notices pertaining to announcements of meetings and other committee management activities, for both CDC and the Agency for Toxic Substances and Disease Registry.

Dated: March 25, 2005.
Alvin Hall,
Director, Management Analysis and Services Office, Centers for Disease Control and Prevention.

[FR Doc. 05-6345 Filed 3-30-05; 8:45 am]

BILLING CODE 4163-19-P